DEPARTMENT OF THE INTERIOR

Fish and Wildlife Service

[FWS-R4-R-2009-N272; 40136-1265-0000-S3]

Black Bayou Lake National Wildlife Refuge, Ouachita Parish, LA

AGENCY: Fish and Wildlife Service, Interior.

ACTION: Notice of availability: Final comprehensive conservation plan and finding of no significant impact.

SUMMARY: We, the Fish and Wildlife Service (Service), announce the availability of our final comprehensive conservation plan (CCP) and finding of no significant impact (FONSI) for the environmental assessment for Black Bayou Lake National Wildlife Refuge (NWR). In the final CCP, we describe how we will manage this refuge for the next 15 years.

ADDRESSES: You may obtain a copy of the CCP by writing to: Mr. George Chandler, North Louisiana National Wildlife Refuge Complex, 11372 Highway 143, Farmerville, LA 71241. The CCP may also be accessed and downloaded from the Service's Web site: http://southeast.fws.gov/planning/ under “Final Documents.”

FOR FURTHER INFORMATION CONTACT: Mr. George Chandler; telephone: 318-726-4222; fax: 318-726-4667; e-mail: george_chandler@fws.gov.

SUPPLEMENTARY INFORMATION

Introduction

With this notice, we finalize the CCP process for Black Bayou Lake NWR. We started this process through a notice in the Federal Register on May 8, 2008 (73 FR 26139).

The Black Bayou Lake NWR is a unit of the North Louisiana National Wildlife Refuge Complex. In addition to Black Bayou Lake NWR, the Complex includes D'Arbonne, Upper Ouachita, Handy Brake, and Red River NWRs, and the Louisiana Farm Service Agency Tracts. Each refuge has unique issues and has had separate planning efforts and public involvement.

The Black Bayou Lake NWR plays an important role regionally in fulfilling the national goals of the National Wildlife Refuge System. Its close proximity to a major metropolitan center gives the public the ability to participate in educational opportunities that promote wildlife stewardship and to learn about environmental issues.

Black Bayou Lake NWR, established in 1997, is 3 miles north of the city of Monroe, Louisiana, just east of Highway 165 in Ouachita Parish. It contains 4,522 acres of wetland, bottomland hardwood, and upland mixed pine/hardwood habitats. Although the suburban sprawl of the city of Monroe surrounds much of its boundary, the refuge itself represents many habitat types and is home to a diversity of plants and animals. Black Bayou Lake NWR is situated in the Mississippi Flyway, the Mississippi Alluvial Valley Bird Conservation Region, and the Lower Mississippi River Ecosystem.

Black Bayou Lake NWR was established for “the conservation of the wetlands of the nation in order to maintain the public benefits they provide and to help fulfill international obligations contained in various migratory bird treaties and conventions” 16 U.S.C. 3901 (b) (Wetlands Extension Act).

The central physical feature of the refuge is the lake itself. Black Bayou Lake, consisting of approximately 1,500 acres, is studded with baldcypress and water tupelo trees. The western half of the lake is open and deeper, unlike the eastern side, which is thick with trees and emergent vegetation. This portion of the lake is naturally filling in. The lake is owned by the city of Monroe, which manages its water level as a secondary source of municipal water. The Service has a 99-year free lease on the lake and some of its surrounding land, constituting a total of 1,620 acres. The refuge owns the remaining 2,902 acres, consisting of upland pine/hardwood and bottomland hardwood forests.

We announce our decision and the availability of the final CCP and FONSI for Black Bayou Lake NWR in accordance with the National Environmental Policy Act (NEPA) [40 CFR 1506.6(b)] requirements. We completed a thorough analysis of impacts on the human environment, which we included in the Draft Comprehensive Conservation Plan and Environmental Assessment (Draft CCP/EA). The CCP will guide us in managing and administering Black Bayou Lake NWR for the next 15 years. Alternative B is the foundation for the CCP.

The compatibility determinations for wildlife observation and photography; environmental education and interpretation; big game hunting; small game hunting; migratory bird hunting; fishing; hiking, jogging, and walking; boating; all-terrain vehicles; plant gathering; bicycling; and forest management/timber harvest are available in the CCP.

Background

The National Wildlife Refuge System Administration Act of 1966 (16 U.S.C. 668dd-668ee) (Administration Act), as amended by the National Wildlife Refuge System Improvement Act of 1997, requires us to develop a CCP for each national wildlife refuge. The purpose in developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Comments

We made copies of the Draft CCP/EA available for a 30-day public review and comment period via a Federal Register notice on September 20, 2009 (74 FR 50237). We received four comments on the Draft CCP/EA.

Selected Alternative

The Draft CCP/EA identified and evaluated three alternatives for managing the refuge. After considering the comments we received and based on the professional judgment of the planning team, we selected Alternative B for implementation.

Under Alternative B, biological potential of historical habitats will be restored and enhanced, with most management actions emphasizing natural ecological processes to foster habitat functions and wildlife populations. We will focus our efforts on reducing invasive species threatening the biological integrity of the refuge. Baseline inventorying and monitoring of management actions will be completed to gain information on a variety of species from reptiles and amphibians to game animals, as well as species of concern. Several cooperative projects will be conducted with universities, the Louisiana Department of Wildlife and Fisheries, and other agencies and individuals to provide biological information to be used in management decisions. To determine how forest management is affecting wildlife, partnerships will be developed to establish scientifically valid protocols and to collaboratively work on research projects. Upland forest management will focus on restoring the biological integrity of a mixed hardwood/pine forest by promoting upland hardwood species. We will increase our management of bottomlands to open canopy cover and increase understory vegetation. Water control structures and pumping capabilities will be improved to enhance moist-soil management for the benefit of wintering waterfowl and shorebirds. Invasive species will be mapped and protocols for control established. Partnerships will continue to be fostered for several biological programs, hunting regulations, law enforcement issues, and research projects.

Public use will be similar to current management, with a few improvements based on additional resources. Environmental education will increase from the current conditions only slightly. The program will be enhanced and improved with the addition of two park rangers (visitor services and law enforcement). Within 3 years of the date of the CCP, we will develop a Visitor Services Plan to be used in maintaining quality public use facilities and opportunities at Black Bayou Lake NWR.

Staffing will increase by four positions: A full-time law enforcement officer, a refuge operations specialist, a maintenance worker, and a park ranger (Visitor Services). This will enable us to increase biological inventorying and monitoring, enhance forest management, increase invasives control, enhance the public use program, and provide safe and compatible wildlife-dependent recreation.

Authority

This notice is published under the authority of the National Wildlife Refuge System Improvement Act of 1997, Public Law 105-57.

Dated: January 13, 2010.
Jeffrey M. Fleming,
Acting Regional Director.

[FR Doc. 2010-21121 Filed 8-24-10; 8:45 am]

BILLING CODE 4310-55-P